COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden.

DATES: Comments must be submitted on or before January 10, 2011.

FOR FURTHER INFORMATION CONTACT: Christopher W. Cummings, Division of Clearing and Intermediary Oversight, CFTC, (202) 418-5445; Fax: (202) 418-5528; e-mail: ccummings@cftc.gov and refer to OMB Control No. 3038-0049.

SUPPLEMENTARY INFORMATION: Title: Procedural Requirements for Requests for Interpretative, No-Action, and Exemptive Letters (OMB Control No. 3038-0049). This is a request for extension of a currently approved information collection.

Abstract: Commission Regulation 140.99 requires persons submitting requests for exemptive, no-action, and interpretative letters to provide specific written information, certified as to completeness and accuracy, and to update that information to reflect material changes. Regulation 140.99 was promulgated pursuant to the Commission's rulemaking authority contained in Section 8a(5) of the Commodity Exchange Act, 7 U.S.C. 12a(5) (2000). Regulation 41.3 requires securities brokers and dealers submitting requests for exemptive orders to provide specified written information in support of such requests. Regulation 41.3 was promulgated in response to the requirement in the Commodity Futures Modernization Act of 2000 that the Commission establish procedures for requesting such orders.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on September 29, 2010 (75 FR 60087).

Burden statement: The respondent burden for this collection is estimated to average 7 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: Futures Commission Merchants, Introducing Brokers, Commodity Pool Operators, Commodity Trading Advisors, Associated Persons, Floor Brokers, Floor Traders, Securities Brokers and Dealers, Retail Foreign Exchange Dealers.

Estimated number of respondents: 100.

Estimated total annual burden on respondents: 1,050 hours.

Frequency of collection: On occasion.

Send comments regarding the burden estimated or any other aspect of the information collection, including suggestions for reducing the burden, to the addresses listed below. Please refer to OMB Control No. 3038-0049 in any correspondence.

Christopher W. Cummings, Division of Clearing and Intermediary Oversight, U.S. Commodity Futures Trading Commission, 1155 21st Street, NW., Washington, DC 20581 and Office of Information and Regulatory Affairs, Office of Management and Budget.

Attention: Desk Officer for CFTC, 725 17th Street, Washington, DC 20503.

Dated: December 2, 2010.
David Stawick,
Secretary of the Commission.

[FR Doc. 2010-30887 Filed 12-8-10; 8:45 am]

BILLING CODE P